DEPARTMENT OF COMMERCE

International Trade Administration

[A-570-890]

Wooden Bedroom Furniture From the People's Republic of China: Preliminary Results of Antidumping Duty Administrative Review and Intent To Rescind Review in Part

AGENCY: Import Administration, International Trade Administration, Department of Commerce.

SUMMARY: In response to requests from interested parties, the Department of Commerce (“Department”) is conducting an administrative review of the antidumping duty order on wooden bedroom furniture (“WBF”) from the People's Republic of China (“PRC”). The period of review (“POR”) is January 1, 2009 through December 31, 2009. This administrative review covers multiple exporters of the subject merchandise, one of which is being individually examined as a “mandatory respondent.”

We have preliminarily determined that the mandatory respondent, Huafeng Furniture Group Co., Ltd. (“Huafeng”), made sales to the United States at prices below normal value (“NV”). Nine companies failed to provide separate rate information and thus did not demonstrate that they are entitled to a separate rate, and have been treated as part of the PRC-wide entity. Additionally, 31 separate rate applicants (including Huafeng) have demonstrated that they are entitled to a separate rate and have been assigned the dumping margin calculated for the mandatory respondent. If these preliminary results are adopted in our final results of review, we will instruct U.S. Customs and Border Protection (“CBP”) to assess antidumping duties on entries of subject merchandise during the POR for which the importer-specific assessment rates are above de minimis.

We invite interested parties to comment on these preliminary results. Parties who submit comments are requested to submit with each argument a statement of the issue and a brief summary of the argument. We intend to issue the final results of this review no later than 120 days from the date of publication of this notice.

DATES: Effective Date: February 10, 2011.

FOR FURTHER INFORMATION CONTACT: Jeff Pedersen or Rebecca Pandolph, AD/CVD Operations, Office 4, Import Administration, International Trade Administration, U.S. Department of Commerce, 14th Street and Constitution Avenue, NW., Washington, DC 20230; telephone: (202) 482-2769 or (202) 482-3627, respectively.

SUPPLEMENTARY INFORMATION:

Background

On January 4, 2005, the Department published in the Federal Register the antidumping duty order on WBF from the PRC.¹ On January 11, 2010, the Department notified interested parties of their opportunity to request an administrative review of orders, findings, or suspended investigations with anniversaries in January 2010, including the antidumping duty order on WBF from the PRC. See Antidumping or Countervailing Duty Order, Finding, or Suspended Investigation; Opportunity to Request Administrative Review, 75 FR 1333 (January 11, 2010) (“Opportunity to Request Administrative Review”). In January 2010, the petitioners, American Furniture Manufacturers Committee for Legal Trade and Vaughan-Bassett Furniture Company, Inc. (“AFMC/Vaughan-Bassett”), and the domestic interested parties, Kimball International, Inc., Kimball Furniture Group, Inc. and Kimball Hospitality Inc., American of Martinsville, and Ashley Furniture, and certain foreign exporters requested that the Department conduct an administrative review. In total, the Department received review requests covering 171 companies. On March 4, 2010, the Department published a notice initiating an antidumping duty administrative review of WBF from the PRC covering 171 companies and the period January 1, 2009 through December 31, 2009. See Initiation of Administrative Review of the Antidumping Duty Order on Wooden Bedroom Furniture From the People's Republic of China, 75 FR 9869 (March 4, 2010) (“Initiation Notice”).

¹ See Notice of Amended Final Determination of Sales at Less Than Fair Value and Antidumping Duty Order: Wooden Bedroom Furniture from the People's Republic of China, 70 FR 329 (January 4, 2005).

In the Initiation Notice and Opportunity to Request Administrative Review, parties were notified that if the Department limited the number of respondents selected for individual examination, it would select respondents based on export/shipment data provided in response to the Department's quantity and value (“Q&V”) questionnaire. The Department further stated its intention to limit the number of Q&V questionnaires issued in the review based on CBP data for U.S. imports classified under the Harmonized Tariff Schedule of the United States (“HTSUS”) headings identified in the scope of the antidumping duty order on WBF from the PRC and to send Q&V questionnaires to the 20 companies for which a review was requested with the largest total values of subject merchandise imported into the United States during the POR according to CBP data. See Initiation Notice, 75 FR at 9870. The Initiation Notice also notified parties that they must timely submit separate rate applications or separate rate certifications in order to qualify for a separate rate. See Initiation Notice, 75 FR at 9870-71.

On March 2, 2010, the Department issued Q&V questionnaires to the 20 companies for which a review was requested with the largest shipments by value according to information gathered from CBP. These questionnaires requested that the companies report the Q&V of their POR exports and/or shipments of WBF to the United States for the purpose of respondent selection. The Department received 59 Q&V questionnaire responses during March 2010. In addition, from March through May 2010, the Department received separate rate certifications and applications as well as requests from seven companies to be treated as voluntary respondents.

On April 5, 2010, AFMC/Vaughan-Bassett submitted comments on the Department's process of selecting mandatory respondents. Given its limited resources, and the fact that an administrative review was requested for 171 companies/company groupings, on April 28, 2010, the Department decided to individually examine the following companies, based upon the Q&V data: (1) Huafeng and (2) the Dorbest Group, which consists of Rui Feng Woodwork Co. Ltd., Rui Feng Lumber Development Co., Ltd., Dorbest Ltd., Rui Feng Woodwork (Dongguan) Co., Ltd., and Rui Feng Lumber Development (Shenzhen) Co., Ltd.²

² See memorandum to Abdelali Elouaradia, Director, Office 4, AD/CVD Operations, regarding, “Respondent Selection in the 2009 Antidumping Duty Administrative Review of Wooden Bedroom Furniture from the People's Republic of China,” dated April 28, 2010 (“Respondent Selection Memorandum”).

On April 28, 2010, the Department issued the antidumping questionnaire to Huafeng and the Dorbest Group, and made the questionnaire available to the voluntary respondents. After all parties withdrew their review requests for the Dorbest Group,³ the Department issued an amendment to the Respondent Selection Memorandum on June 16, 2010, naming the company group Dongguan Sunrise Furniture Co., Taicang Sunrise Wood Industry Co., Ltd., and Huafeng Designs (“Fairmont”) as an additional mandatory respondent.⁴

³ All review requests were withdrawn for the Dorbest Group prior to the due date for the group to respond to section A of the antidumping questionnaire.

⁴ See memorandum to Abdelali Elouaradia, Director, Office 4, AD/CVD Operations, regarding, “Amendment to Respondent Selection in the Antidumping Duty Administrative Review of Wooden Bedroom Furniture from the People's Republic of China (PRC),” dated June 16, 2010.

From March through August 2010, a number of interested parties withdrew their review requests, including all review requests of the mandatory respondent Fairmont. On September 9, 2010, the Department published a notice rescinding the review with respect to 119 entities for which all review requests had been withdrawn.⁵

⁵ See Wooden Bedroom Furniture From the People's Republic of China: Partial Rescission of Antidumping Duty Administrative Review, 75 FR 54854 (September 9, 2010).

Between June and November 2010, Huafeng responded to the Department's antidumping questionnaire and supplemental questionnaires and AFMC/Vaughan-Bassett commented on Huafeng's responses.

In response to the Department's September 2, 2010, letter providing parties with an opportunity to submit comments regarding surrogate country and surrogate value selection, AFMC/Vaughan Bassett and Huafeng filed surrogate value comments in September and November 2010.

On September 15, 2010, the Department extended the deadline for the issuance of the preliminary results of the administrative review until January 31, 2011.⁶

⁶ See Wooden Bedroom Furniture From the People's Republic of China: Extension of Time Limits for the Preliminary Results of the Antidumping Duty Administrative Review, 75 FR 56059 (September 15, 2010).

In November and December 2010, the Department verified the antidumping questionnaire and supplemental questionnaire responses of Huafeng by visiting its PRC headquarters and factory and its U.S. sales affiliate Great River Trading Co. (“GRT”).⁷

⁷ See the separate January 31, 2010, memoranda regarding verification in the 5th Antidumping Duty Administrative Review of Wooden Bedroom Furniture from the People's Republic of China covering Dalian Huafeng Furniture Group Co., Ltd. and Great River Trading Co., Ltd. (collectively, the “5th Review Verification Reports”).

On December 7, 2010, AFMC/Vaughan-Bassett withdrew the sole request for a review of Zhangjiagang Zheng Yan Decoration Co., Ltd. (“ZYD”). Although the withdrawal was submitted more than six months after the 90-day regulatory deadline for withdrawing review requests established in 19 CFR 351.213(d), AFMC/Vaughan-Bassett contend that the Department has not expended considerable resources and effort on this company and thus it should exercise its discretion to accept the withdrawal of the review request with respect to ZYD. The Department has decided it is not reasonable to extend the time for AFMC/Vaughan-Bassett's filing a withdrawal of its request for a review of ZYD because it was submitted at an advanced stage of the review.

Scope of the Order

The product covered by the order is WBF. WBF is generally, but not exclusively, designed, manufactured, and offered for sale in coordinated groups, or bedrooms, in which all of the individual pieces are of approximately the same style and approximately the same material and/or finish. The subject merchandise is made substantially of wood products, including both solid wood and also engineered wood products made from wood particles, fibers, or other wooden materials such as plywood, strand board, particle board, and fiberboard, with or without wood veneers, wood overlays, or laminates, with or without non-wood components or trim such as metal, marble, leather, glass, plastic, or other resins, and whether or not assembled, completed, or finished.

The subject merchandise includes the following items: (1) Wooden beds such as loft beds, bunk beds, and other beds; (2) wooden headboards for beds (whether stand-alone or attached to side rails), wooden footboards for beds, wooden side rails for beds, and wooden canopies for beds; (3) night tables, night stands, dressers, commodes, bureaus, mule chests, gentlemen's chests, bachelor's chests, lingerie chests, wardrobes, vanities, chessers, chifforobes, and wardrobe-type cabinets; (4) dressers with framed glass mirrors that are attached to, incorporated in, sit on, or hang over the dresser; (5) chests-on-chests,⁸ highboys,⁹ lowboys,¹⁰ chests of drawers,¹¹chests,¹²door chests,¹³ chiffoniers,¹⁴ hutches,¹⁵ and armoires;¹⁶(6) desks, computer stands, filing cabinets, book cases, or writing tables that are attached to or incorporated in the subject merchandise; and (7) other bedroom furniture consistent with the above list.

⁸ A chest-on-chest is typically a tall chest-of-drawers in two or more sections (or appearing to be in two or more sections), with one or two sections mounted (or appearing to be mounted) on a slightly larger chest; also known as a tallboy.

⁹ A highboy is typically a tall chest of drawers usually composed of a base and a top section with drawers, and supported on four legs or a small chest (often 15 inches or more in height).

¹⁰ A lowboy is typically a short chest of drawers, not more than four feet high, normally set on short legs.

¹¹ A chest of drawers is typically a case containing drawers for storing clothing.

¹² A chest is typically a case piece taller than it is wide featuring a series of drawers and with or without one or more doors for storing clothing. The piece can either include drawers or be designed as a large box incorporating a lid.

¹³ A door chest is typically a chest with hinged doors to store clothing, whether or not containing drawers. The piece may also include shelves for televisions and other entertainment electronics.

¹⁴ A chiffonier is typically a tall and narrow chest of drawers normally used for storing undergarments and lingerie, often with mirror(s) attached.

¹⁵ A hutch is typically an open case of furniture with shelves that typically sits on another piece of furniture and provides storage for clothes.

¹⁶ An armoire is typically a tall cabinet or wardrobe (typically 50 inches or taller), with doors, and with one or more drawers (either exterior below or above the doors or interior behind the doors), shelves, and/or garment rods or other apparatus for storing clothes. Bedroom armoires may also be used to hold television receivers and/or other audio-visual entertainment systems.

The scope of the order excludes the following items: (1) Seats, chairs, benches, couches, sofas, sofa beds, stools, and other seating furniture; (2) mattresses, mattress supports (including box springs), infant cribs, water beds, and futon frames; (3) office furniture, such as desks, stand-up desks, computer cabinets, filing cabinets, credenzas, and bookcases; (4) dining room or kitchen furniture such as dining tables, chairs, servers, sideboards, buffets, corner cabinets, china cabinets, and china hutches; (5) other non-bedroom furniture, such as television cabinets, cocktail tables, end tables, occasional tables, wall systems, book cases, and entertainment systems; (6) bedroom furniture made primarily of wicker, cane, osier, bamboo or rattan; (7) side rails for beds made of metal if sold separately from the headboard and footboard; (8) bedroom furniture in which bentwood parts predominate; ¹⁷ (9) jewelry armories; ¹⁸ (10) cheval mirrors; ¹⁹ (11) certain metal parts; ²⁰ (12) mirrors that do not attach to, incorporate in, sit on, or hang over a dresser if they are not designed and marketed to be sold in conjunction with a dresser as part of a dresser-mirror set; (13) upholstered beds ²¹ and (14) toy boxes.²²

¹⁷ As used herein, bentwood means solid wood made pliable. Bentwood is wood that is brought to a curved shape by bending it while made pliable with moist heat or other agency and then set by cooling or drying. See CBP's Headquarters Ruling Letter 043859, dated May 17, 1976.

¹⁸ Any armoire, cabinet or other accent item for the purpose of storing jewelry, not to exceed 24 inches in width, 18 inches in depth, and 49 inches in height, including a minimum of 5 lined drawers lined with felt or felt-like material, at least one side door (whether or not the door is lined with felt or felt-like material), with necklace hangers, and a flip-top lid with inset mirror. See Issues and Decision Memorandum from Laurel LaCivita to Laurie Parkhill, Office Director, concerning “Jewelry Armoires and Cheval Mirrors in the Antidumping Duty Investigation of Wooden Bedroom Furniture from the People's Republic of China,” dated August 31, 2004. See also Wooden Bedroom Furniture From the People's Republic of China: Final Changed Circumstances Review, and Determination To Revoke Order in Part, 71 FR 38621 (July 7, 2006).

¹⁹ Cheval mirrors are any framed, tiltable mirror with a height in excess of 50 inches that is mounted on a floor-standing, hinged base. Additionally, the scope of the order excludes combination cheval mirror/jewelry cabinets. The excluded merchandise is an integrated piece consisting of a cheval mirror, i.e., a framed tiltable mirror with a height in excess of 50 inches, mounted on a floor-standing, hinged base, the cheval mirror serving as a door to a cabinet back that is integral to the structure of the mirror and which constitutes a jewelry cabinet line with fabric, having necklace and bracelet hooks, mountings for rings and shelves, with or without a working lock and key to secure the contents of the jewelry cabinet back to the cheval mirror, and no drawers anywhere on the integrated piece. The fully assembled piece must be at least 50 inches in height, 14.5 inches in width, and 3 inches in depth. See Wooden Bedroom Furniture From the People's Republic of China: Final Changed Circumstances Review and Determination To Revoke Order in Part, 72 FR 948 (January 9, 2007).

²⁰ Metal furniture parts and unfinished furniture parts made of wood products (as defined above) that are not otherwise specifically named in this scope (i.e., wooden headboards for beds, wooden footboards for beds, wooden side rails for beds, and wooden canopies for beds) and that do not possess the essential character of wooden bedroom furniture in an unassembled, incomplete, or unfinished form. Such parts are usually classified under HTSUS subheadings 9403.90.7005, 9403.90.7010, or 9403.90.7080.

²¹ Upholstered beds that are completely upholstered, i.e., containing filling material and completely covered in sewn genuine leather, synthetic leather, or natural or synthetic decorative fabric. To be excluded, the entire bed (headboards, footboards, and side rails) must be upholstered except for bed feet, which may be of wood, metal, or any other material and which are no more than nine inches in height from the floor. See Wooden Bedroom Furniture from the People's Republic of China: Final Results of Changed Circumstances Review and Determination to Revoke Order in Part, 72 FR 7013 (February 14, 2007).

²² To be excluded the toy box must: (1) Be wider than it is tall; (2) have dimensions within 16 inches to 27 inches in height, 15 inches to 18 inches in depth, and 21 inches to 30 inches in width; (3) have a hinged lid that encompasses the entire top of the box; (4) not incorporate any doors or drawers; (5) have slow-closing safety hinges; (6) have air vents; (7) have no locking mechanism; and (8) comply with American Society for Testing and Materials (“ASTM”) standard F963-03. Toy boxes are boxes generally designed for the purpose of storing children's items such as toys, books, and playthings. See Wooden Bedroom Furniture from the People's Republic of China: Final Results of Changed Circumstances Review and Determination to Revoke Order in Part, 74 FR 8506 (February 25, 2009). Further, as determined in the scope ruling memorandum “Wooden Bedroom Furniture from the People's Republic of China: Scope Ruling on a White Toy Box,” dated July 6, 2009, the dimensional ranges used to identify the toy boxes that are excluded from the wooden bedroom furniture order apply to the box itself rather than the lid.

Imports of subject merchandise are classified under subheadings 9403.50.9042 and 9403.50.9045 ²³ of the HTSUS as “wooden * * * beds” and under subheading 9403.50.9080 of the HTSUS as “other * * * wooden furniture of a kind used in the bedroom.” In addition, wooden headboards for beds, wooden footboards for beds, wooden side rails for beds, and wooden canopies for beds may also be entered under subheading 9403.50.9042 or 9403.50.9045 of the HTSUS as “parts of wood.” Subject merchandise may also be entered under subheading 9403.60.8081.²⁴ Further, framed glass mirrors may be entered under subheading 7009.92.1000 ²⁵ or 7009.92.5000 of the HTSUS as “glass mirrors * * * framed.” This order covers all WBF meeting the above description, regardless of tariff classification. Although the HTSUS subheadings are provided for convenience and customs purposes, our written description of the scope of this proceeding is dispositive.

²³ These HTSUS numbers, as well as the numbers in footnote 19, reflect the HTSUS numbers currently in effect. These numbers differ from those used in the last completed antidumping duty administrative review of WBF from the PRC because the HTSUS has been revised.

²⁴ This HTSUS number has been added to the scope in this segment of the proceeding.

²⁵ Id.

Verification

As provided in section 782(i) of the Tariff Act of 1930, as amended (“the Act”), we have verified the information provided by Huafeng using standard verification procedures including on-site inspection of the manufacturer's facilities and the examination of relevant sales and financial records. Our verification results are outlined in the 5th Review PRC Verification Report ²⁶ and 5th Review CEP Verification Report,²⁷ the public versions of which are available in the Central Records Unit, Room 7046 of the main Department building.

²⁶ See memorandum to the file through Howard Smith, Program Manager, AD/CVD Operations, Office 4, entitled “Verification at Dalian Huafeng Furniture Group Co., Ltd. in the 5th Antidumping Duty Administrative Review of Wooden Bedroom Furniture from the People's Republic of China,” dated January 31, 2011.

²⁷ See memorandum to the file through Howard Smith, Program Manager, AD/CVD Operations, Office 4, entitled “Verification at Great River Trading Co., Ltd. in the 5th Antidumping Duty Administrative Review of Wooden Bedroom Furniture from the People's Republic of China,” (“CEP Verification Report”) dated January 31, 2011.

Intent To Rescind the 2009 Administrative Review, in Part

Among the companies still under review, 12 companies reported that they made no shipments of subject merchandise to the United States during the POR. To test these claims, the Department ran a CBP data query, issued no-shipment inquiries to CBP requesting that it provide any information that contradicted the no-shipment claims, and obtained entry documents from CBP.²⁸ After examining record information, we have preliminarily determined that three of the 12 companies, Nantong Yangzi Furniture Company (“Nantong Yangzi”), Zhongshan Gainwell Furniture Co., Ltd. (“Zhongshan Gainwell”), and Dongguan Landmark Furniture Products Ltd. (“Dongguan Landmark”), had shipments of subject merchandise that entered the United States during the POR.²⁹

²⁸ See memorandum to Abdelali Elouaradia, Director, Office 4, AD/CVD Operations, regarding “Intent to Rescind the Review of Respondents Claiming No Sales/Shipments” dated January 31, 2011.

²⁹ Id.

Since record evidence does not contradict the no-shipment claims of the following companies, the Department has preliminarily rescinded this administrative review with respect to these companies, pursuant to 19 CFR 351.213(d)(3):

• Clearwise Company Limited

• Dongguan Huangsheng Furniture Co., Ltd.³⁰

• Dongguan Mu Si Furniture Co. Ltd.

• Fleetwood Fine Furniture LP

• Hainan Jong Bao Lumber Co. Ltd/Jibbon Enterprise Co., Ltd.

• Shanghai Fangjia Industry Co., Ltd.

• Yeh Brothers World Trade Inc.

• Golden Well International (HK) Ltd.

• Zhejiang Tianyi Scientific and Educational Equipment Co., Ltd. (“Zhejiang Tianyi”) ³¹

³⁰ Dongguan Huangsheng Furniture Co., Ltd.'s only sales made during the POR were covered by a new shipper review for the period January 1, 2009, through December 31, 2009. If the new shipper review of this company is completed, these shipments are not subject to this administrative review. See Wooden Bedroom Furniture From the People's Republic of China: Preliminary Results of Antidumping Duty New Shipper Reviews, 75 FR 72794 (November 26, 2010); see also 19 CFR 351.214(j).

³¹ Zhejiang Tianyi's only sales made during the POR were covered by a new shipper review covering the period January 1, 2009, through June 30, 2009 and thus are not subject to this review. See Wooden Bedroom Furniture from the People's Republic of China: Final Results of Antidumping Duty New Shipper Review, 75 FR 44764 (July 29, 2010).

Non-Market Economy Country Status

In every case conducted by the Department involving the PRC, the PRC has been treated as a non-market economy (“NME”) country. In accordance with section 771(18)(C)(i) of the Act, any determination that a foreign country is an NME country shall remain in effect until revoked by the administering authority. None of the parties to this proceeding have contested NME treatment. Accordingly, the Department calculated NV in accordance with section 773(c) of the Act, which applies to NME countries.

Selection of a Surrogate Country

When the Department conducts an antidumping duty administrative review of imports from an NME country, section 773(c)(1) of the Act directs the Department to base NV, in most cases, on the NME producer's factors of production (“FOP”) valued in a surrogate market economy country or countries considered appropriate by the Department. In accordance with section 773(c)(4) of the Act, the Department will value FOP using “to the extent possible, the prices or costs of factors of production in one or more market economy countries that are—(A) at a level of economic development comparable to that of the NME country, and (B) significant producers of comparable merchandise.” Further, pursuant to 19 CFR 351.408(c)(2), the Department will normally value all FOP in a single country, except for labor.

In the instant review, the Department identified India, Indonesia, Peru, the Philippines, Thailand, and Ukraine as being at a level of economic development comparable to the PRC.³² On September 14, 2010, AFMC/Vaughan-Bassett provided information regarding the selection of a surrogate country.³³ AFMC/Vaughan-Bassett asserted that the Philippines satisfies the statutory requirements for the selection of the surrogate country because it is at a level of economic development comparable to the PRC and is a significant producer of comparable merchandise.³⁴ AFMC/Vaughan-Bassett provided an October 2007 report entitled the The Furniture Industry in the Philippines published by the international research firm CSIL Milano that demonstrates the significance of Philippine production of wooden furniture.³⁵ Moreover, AFMC/Vaughan-Bassett noted that the Philippines has been selected as the surrogate country in the recent segments of this proceeding and provides readily available and reliable factor value data.³⁶ No other interested parties commented on the selection of a surrogate country.

³² See memorandum entitled, “Request for a List of Surrogate Countries for an Administrative Review of the Antidumping Duty Order on Wooden Bedroom Furniture (“WBF”) from the People's Republic of China (“PRC”),” dated April 26, 2010 (“Policy Memorandum”). The Department notes that these six countries are part of a non-exhaustive list of countries that are at a level of economic development comparable to the PRC.

³³ See Letter from AFMC/Vaughan-Bassett regarding, “Wooden Bedroom Furniture From the People's Republic of China: Comments Concerning Surrogate Country And The April 26, 2010, Office Of Policy Memorandum,” dated September 14, 2010 (“AFMC/Vaughan-Bassett's Surrogate Country Comments”).

³⁴ See AFMC/Vaughan-Bassett's Surrogate Country Comments at 2.

³⁵ See AFMC/Vaughan-Bassett's Surrogate Country Comments at Attachment 1.

³⁶ See AFMC/Vaughan-Bassett's Surrogate Country Comments at 3.

Based on the information on the record, we find that the Philippines is a significant producer of comparable merchandise. Specifically, The Furniture Industry in the Philippines report indicates that in 2006, Philippine manufacturers produced furniture valued at $813 million and the Philippines exported furniture valued at $279 million.³⁷ In addition, The Furniture Industry in the Philippines describes the furniture sector as comprised of approximately 15,000 manufacturers and 800,000 workers.³⁸ Thus, record evidence shows that the Philippines is a significant producer of merchandise that is comparable to the merchandise under review.

³⁷ See AFMC/Vaughan-Bassett's' Surrogate Country Comments at Attachment 1.

³⁸ Id.

With respect to data considerations in selecting a surrogate country, from September to December 2010, AFMC/Vaughan-Bassett and Huafeng submitted publicly-available Philippine data for valuing Huafeng's FOP. In addition, the Department used the Philippines as the primary surrogate country in the second, third, and fourth administrative reviews of this proceeding.³⁹ Therefore, based on parties' submissions on the instant record and its experience in this proceeding, the Department finds that reliable, publicly available data for valuing FOP are available from the Philippines.

³⁹ See Wooden Bedroom Furniture From the People's Republic of China: Preliminary Results of Antidumping Duty Administrative Review, Preliminary Results of New Shipper Review and Partial Rescission of Administrative Review, 73 FR 8273, 8277-78 (February 13, 2008), unchanged in the final results, 73 FR 49162; Wooden Bedroom Furniture From the People's Republic of China: Preliminary Results of Antidumping Duty Administrative and New Shipper Reviews and Partial Rescission of Review, 74 FR 6372, 6376 (February 9, 2009), unchanged in the final results, 74 FR 41374; and Wooden Bedroom Furniture From the People's Republic of China: Preliminary Results of Antidumping Duty Administrative Review and Intent To Rescind Review in Part, 75 FR 5952, 5956 (February 5, 2010), unchanged in the final results, 75 FR 50992.

However, for the input “railway freight,” the Department has been unable to locate a suitable surrogate value from the Philippines. Therefore, we preliminary determine to use India as a secondary surrogate country because the record shows that India is at a level of economic development comparable to that of the PRC ⁴⁰ and is a significant producer of merchandise comparable to the subject merchandise.⁴¹ Moreover, India has publicly available, country-wide data that clearly identifies the relevant time period and prices for valuing railway freight.⁴²

⁴⁰ See Policy Memorandum.

⁴¹ See memorandum to the File through Howard Smith, Program Manager, AD/CVD Operations, Office 4, entitled “Antidumping Duty Administrative Review of Wooden Bedroom Furniture from the People's Republic of China: Factor Valuation Memorandum,” dated January 31, 2011 (“Factor Valuation Memorandum”) at Attachments III and IV.

⁴² See the Factor Valuations section below for further details.

Thus, the Department has preliminarily selected the Philippines as the surrogate country because the record shows that the Philippines is at a level of economic development comparable to that of the PRC and is a significant producer of merchandise comparable to subject merchandise. Moreover, the record indicates that sufficient, contemporaneous, public Philippine data are readily-available.⁴³ Accordingly, we have selected the Philippines as the surrogate country and we have calculated NV using Philippine prices to value Huafeng's FOP.⁴⁴ In accordance with 19 CFR 351.301(c)(3)(ii), interested parties may submit publicly-available information to value FOP until 20 days after the date of publication of the preliminary results.⁴⁵

⁴³ See Factor Valuation Memorandum.

⁴⁴ Id.

⁴⁵ In accordance with 19 CFR 351.301(c)(1), for the final results of this administrative review, interested parties may submit factual information to rebut, clarify, or correct factual information submitted by an interested party less than ten days before, on, or after, the applicable deadline for submission of such factual information. However, the Department notes that 19 CFR 351.301(c)(1) permits new information only insofar as it rebuts, clarifies, or corrects information placed on the record. The Department generally will not accept the submission of additional, previously absent-from-the-record alternative surrogate value information pursuant to 19 CFR 351.301(c)(1). See Glycine from the People's Republic of China: Final Results of Antidumping Duty Administrative Review and Final Rescission, in Part, 72 FR 58809 (October 17, 2007) and accompanying Issues and Decision Memorandum at Comment 2.

Separate Rates

In proceedings involving NME countries, the Department has a rebuttable presumption that all companies within the country are subject to government control and thus should be assessed a single antidumping duty rate. It is the Department's policy to assign all exporters of subject merchandise in a NME country this single rate unless an exporter can demonstrate that it is sufficiently independent so as to be entitled to a separate rate. Exporters can demonstrate this independence through the absence of both de jure and de facto governmental control over export activities. The Department analyzes each entity exporting the subject merchandise under a test arising from the Final Determination of Sales at Less Than Fair Value: Sparklers From the People's Republic of China, 56 FR 20588 (May 6, 1991) (“Sparklers”), as further developed in Notice of Final Determination of Sales at Less Than Fair Value: Silicon Carbide from the People's Republic of China, 59 FR 22585, 22586-87 (May 2, 1994) (“Silicon Carbide”). However, if the Department determines that a company is wholly foreign-owned or located in a market economy, then a separate rate analysis is not necessary to determine whether it is independent from government control. See Notice of Final Determination of Sales at Less Than Fair Value: Creatine Monohydrate from the People's Republic of China, 64 FR 71104, 71105 (December 20, 1999) (where the respondent was wholly foreign-owned and thus qualified for a separate rate). As part of our analysis we sent several supplemental questionnaires to certain separate rate respondents and received responses in September and October 2010.

A. Separate Rate Recipients

1. Wholly Foreign-Owned ⁴⁶

⁴⁶ Wholly foreign-owned companies are identified in the Preliminary Results of Review section below by the symbol “*”, while partially and wholly owned Chinese companies are identified by the symbol “#”.

Certain companies reported that they are wholly owned by individuals or companies located in a market economy (collectively, “Foreign-owned SR Applicants”). The record indicates that these companies are wholly foreign-owned and the Department has no evidence indicating that they are under the control of the PRC government. Accordingly, the Department has preliminarily granted a separate rate to these Foreign-owned SR Applicants.

2. Joint Ventures Between Chinese and Foreign Companies or Wholly Chinese- Owned Companies ⁴⁷

⁴⁷ Id.

For all separate rate applicants that reported that they are either joint ventures between Chinese and foreign companies, or are wholly Chinese-owned companies (collectively “PRC SR Applicants”), the Department has analyzed whether each PRC SR Applicant has demonstrated the absence of de jure and de facto governmental control over its respective export activities.

a. Absence of De Jure Control

The Department considers the following de jure criteria in determining whether an individual company may be granted a separate rate: (1) An absence of restrictive stipulations associated with an individual exporter's business and export license; (2) legislative enactments decentralizing control of companies; and (3) other formal measures by the government decentralizing control of companies. See Sparklers, 56 FR at 20589.

The evidence provided by the PRC SR Applicants supports a preliminary finding of an absence of de jure governmental control based on the following: (1) An absence of restrictive stipulations associated with the individual exporters' business and export licenses; (2) applicable legislative enactments decentralizing control of PRC companies; and (3) formal measures by the government decentralizing control of PRC companies.

b. Absence of De Facto Control

The Department considers four factors in evaluating whether each respondent is subject to de facto governmental control of its export functions: (1) Whether the export prices are set by or are subject to the approval of a governmental agency; (2) whether the respondent has authority to negotiate and sign contracts and other agreements; (3) whether the respondent has autonomy from the government in making decisions regarding the selection of management; and (4) whether the respondent retains the proceeds of its export sales and makes independent decisions regarding disposition of profits or financing of losses. See Silicon Carbide, 59 FR at 22586-87; see also Notice of Final Determination of Sales at Less Than Fair Value: Furfuryl Alcohol From the People's Republic of China, 60 FR 22544, 22545 (May 8, 1995). The Department has determined that an analysis of de facto control is critical in determining whether respondents are, in fact, subject to a degree of governmental control which would preclude the Department from assigning separate rates.

The evidence provided by the PRC SR Applicants supports a preliminary finding of an absence of de facto governmental control based on the following: (1) An absence of restrictive governmental control on the PRC SR Applicants' export prices; (2) a showing of the PRC SR Applicants' authority to negotiate and sign contracts and other agreements; (3) a showing that the PRC SR Applicants maintain autonomy from the government in making decisions regarding the selection of management; and (4) a showing that the PRC SR Applicants retain the proceeds of their respective export sales and make independent decisions regarding disposition of profits or financing of losses.

The evidence placed on the record by the PRC SR Applicants demonstrates an absence of de jure and de facto governmental control, in accordance with the criteria identified in Sparklers and Silicon Carbide. Accordingly, the Department has preliminarily granted a separate rate to the PRC SR Applicants.

B. Margins for Separate Rate Recipients Not Individually Examined

Consistent with our normal practice,⁴⁸ we based the weighted-average dumping margin for the separate rate recipients not individually examined on the weighted-average dumping margin calculated for Huafeng, the one mandatory respondent that participated in this review. The entities receiving this rate are identified by name in the Preliminary Results of Review section of this notice.

⁴⁸ See, e.g., Preliminary Determination of Sales at Less Than Fair Value and Partial Affirmative Determination of Critical Circumstances: Certain Polyester Staple Fiber from the People's Republic of China, 71 FR 77373, 77377 (December 26, 2006), unchanged in final determination, 72 FR 19690.

C. Companies Not Receiving a Separate Rate

The following nine companies and company groupings for which the Department initiated the instant review did not provide a separate rate certification or application:

• Dongguan Creation Furniture Co., Ltd., Creation Industries Co., Ltd.

• Foshan Guanqiu Furniture Co., Ltd.

• Jiangsu Weifu Group Fullhouse Furniture Mfg. Corp.

• Link Silver Ltd. (V.I.B.), Forward Win Enterprises Company Limited, Dongguan Haoshun Furniture Ltd.

• Nantong Yushi Furniture Co., Ltd.

• Shanghai Aosen Furniture Co., Ltd.

• Shenzhen Xiande Furniture Factory

• Tarzan Furniture Industries, Ltd., Samso Industries Ltd.

• Tianjin Master Home Furniture

The companies listed above, which were named in the Initiation Notice, were notified in that notice that they must timely submit separate rate applications or separate rate certifications in order to qualify for a separate rate. Additionally, the Initiation Notice identified the Web site address where the separate rate certification and the separate rate application could be found. Since each of the companies listed above did not provide separate rate information, they have failed to demonstrate their eligibility for separate rate status. As a result, the Department is treating these PRC exporters as part of the PRC-wide entity.

Also, we have preliminarily found that (1) Nantong Yangzi, (2) Zhongshan Gainwell, and (3) Dongguan Landmark shipped subject merchandise during the POR, despite their claims to the contrary.⁴⁹ Because these companies did not file a timely separate rate certification or application and thereby failed to provide separate rate information, they have failed to demonstrate their eligibility for separate rate status. As a result, the Department is treating these companies as part of the PRC-wide entity.

⁴⁹ See the January 31, 2011, memorandum from Drew Jackson to Abdelali Elouaradia entitled “Intent to Rescind the Review of Respondents Claiming No Sales/Shipments.”

Use of Facts Available and Adverse Facts Available (“AFA”)

Section 776(a) of the Act provides that the Department shall apply “facts otherwise available” if: (1) Necessary information is not on the record, or (2) an interested party or any other person (A) withholds information that has been requested, (B) fails to provide information within the deadlines established, or in the form and manner requested by the Department, subject to subsections (c)(1) and (e) of section 782 of the Act, (C) significantly impedes a proceeding, or (D) provides information that cannot be verified as provided by section 782(i) of the Act.

Where the Department determines that a response to a request for information does not comply with the request, section 782(d) of the Act provides that the Department will so inform the party submitting the response and will, to the extent practicable, provide that party the opportunity to remedy or explain the deficiency. If the party fails to remedy the deficiency within the applicable time limits and subject to section 782(e) of the Act, the Department may disregard all or part of the original and subsequent responses, as appropriate.

Section 782(e) of the Act provides that the Department “shall not decline to consider information that is submitted by an interested party and is necessary to the determination but does not meet all applicable requirements established by the administering authority” if the information is timely, can be verified, is not so incomplete that it cannot be used, and if the interested party acted to the best of its ability in providing the information. Where all of these conditions are met, the statute requires the Department to use the information supplied if it can do so without undue difficulties.

Section 776(b) of the Act further provides that the Department may use an adverse inference in applying the facts otherwise available when a party has failed to cooperate by not acting to the best of its ability to comply with a request for information. Such an adverse inference may include reliance on information derived from the petition, the final determination, a previous administrative review, or other information placed on the record.

A. Application of Total AFA to the PRC-Wide Entity

In the Initiation Notice, the Department stated that if one of the companies for which this review has been initiated “does not qualify for a separate rate, all other exporters of WBF from the PRC that have not qualified for a separate rate are deemed to be covered by this review as part of a single PRC entity * * * .” As noted above, not all of the companies for which this review was initiated have qualified for a separate rate; as a result, the PRC-wide entity is now under review.

Certain companies which we are treating as part of the PRC-wide entity did not respond to the Department's request for Q&V data. We preliminarily determine that these companies withheld information requested by the Department.

Thus, pursuant to sections 776(a)(2)(A) (withholds requested information) and (C) (significantly impedes a proceeding) of the Act, the Department has preliminarily based the dumping margin of the PRC-wide entity on the facts otherwise available on the record. Furthermore, the PRC-wide entity's refusal to provide the requested information constitutes circumstances under which it is reasonable to conclude that less than full cooperation has been shown. See Nippon Steel Corporation v. United States, 337 F.3d 1373, 1383 (Fed. Cir. 2003) (Nippon Steel) where the Court of Appeals for the Federal Circuit (“CAFC”) explained that the Department need not show intentional conduct existed on the part of the respondent, but merely that a “failure to cooperate to the best of a respondent's ability” existed (i.e., information was not provided “under circumstances in which it is reasonable to conclude that less than full cooperation has been shown”). Hence, pursuant to section 776(b) of the Act, the Department has determined that, when selecting from among the facts otherwise available, an adverse inference is warranted with respect to the PRC-wide entity.

B. Application of Partial AFA for Huafeng

At verification, we discovered that Huafeng failed to report all constructed export price (“CEP”) sales of subject merchandise that were shipped directly to unaffiliated U.S. customers. Specifically, Huafeng failed to report a number of sales where the date of sale occurred prior to the POR, but the merchandise entered the United States during the POR.⁵⁰ We further discovered at verification that Huafeng failed to report CEP sales that it considered to be sample sales, but for which it received payment. Finally, at verification we discovered that Huafeng failed to report CEP sales of four dressers made during the POR. Since Huafeng did not report these sales and the related sales adjustments and did not provide the control numbers for these products as requested by the Department, the information necessary to calculate dumping margins for these sales is not on the record. Thus, the Department has based the dumping margins for the unreported sales on facts available pursuant to section 776(a)(2)(A) (withholds requested information) of the Act.

⁵⁰ See 5th Review CEP Verification Report at 12-13 and Exhibits 1 and 7.

Moreover, the Department finds that in not reporting these sales, Huafeng has failed to cooperate by not acting to the best of its ability to comply with requests for information and thus it is appropriate to use an inference that is adverse to Huafeng's interests in selecting from among the facts otherwise available in accordance with section 776(b) of the Act. The Department requested that Huafeng report U.S. sales of subject merchandise following the reporting methodology laid out in the questionnaire.⁵¹ In preparing a response to a request from the Department, it is presumed that a respondent is familiar with its own records.⁵² At verification, the verifiers readily identified the unreported sales described above in documents that Huafeng prepared for verification and in Huafeng's records.⁵³

⁵¹ See, e.g., the Department's antidumping questionnaire, dated April 28, 2010, at C-1 and D-1.

⁵² See Nippon Steel, 337 F.3d at 1383.

⁵³ See 5th Review CEP Verification Report at Exhibit 7.

The Department's questionnaire instructs companies to “Report each U.S. sale of merchandise entered for consumption during the POR.” In its questionnaire response, Huafeng stated that it had “reported its sales of the subject merchandise to the United States during the POR * * *.” ⁵⁴ To confirm that Huafeng had reported all sales consistent with the Department's questionnaire instructions, the Department again requested of Huafeng in a supplemental questionnaire: “All CEP sales where the date of sale occurs after the date of entry into the United States should be reported based on whether the date of sale occurred in the POR. All CEP sales where the date of sale occurred prior to the date of entry into the United States should be reported based on whether the date of entry was during the POR. Have you done so? If not, please do so at this time.” ⁵⁵ Huafeng responded that it “confirms that all CEP sales where the date of sale occurred prior to the date of entry into the U.S. were reported based on whether the date of entry was during the POR.” ⁵⁶ Contrary to these claims, however, Huafeng failed to report CEP sales where the date of sale occurred prior to the POR, but the merchandise entered the United States during the POR.

⁵⁴ See Huafeng's July 6, 2010 submission at 2.

⁵⁵ See Huafeng's September 20, 2010 submission at 3.

⁵⁶ See Huafeng's September 20, 2010 submission at 3.

With regard to sample sales, the Department, in its questionnaire, requested certain information relating to sample sales, including quantity and gross unit price, and then instructed Huafeng to “Please report in your sales database all instances where you sold samples to customers in the United States.” While Huafeng reported export price (“EP”) sample sales in its submitted U.S. sales database, it did not report the CEP sample sales in the sales database, but only reported the total sales value of CEP sample sales in the narrative portion of its questionnaire response.⁵⁷ Thus, the Department did not know the product information, individual sales value, sales adjustments or almost any other information necessary to calculate the antidumping margin of the CEP sample sales. The Department also asked Huafeng in a supplemental questionnaire “Did you report all sales of subject merchandise for which you received consideration, including sample sales? If not, please do so at this time.” Huafeng replied that it had “reported all sales of subject merchandise for which it received consideration, including sample sales,” and that in the revised database it had created a field that identified sales of sample merchandise.⁵⁸ While Huafeng reported EP sample sales, it continually failed, despite specific requests, to report CEP sample sales in its U.S. sales database.⁵⁹

⁵⁷ See Huafeng's July 6, 2010 submission at 48, which contains both the Department's question and Huafeng's response.

⁵⁸ See Huafeng's October 27, 2010 response at 12, which contains both the Department's question and Huafeng's response.

⁵⁹ Id. at Exhibit S-66.

Lastly, despite claiming in its questionnaire response that it had “reported its sales of the subject merchandise to the United States during the POR in this submission,” ⁶⁰ at verification, the verifiers found that Huafeng failed to report four sales of dressers.⁶¹

⁶⁰ See Huafeng's July 6, 2010 submission at 2.

⁶¹ See CEP Verification Report at 11.

When Huafeng officials were asked at verification why they failed to report all three types of unreported sales, they did not identify any impediments to reporting them.⁶² This, in conjunction with its failure to accurately respond to the numerous requests cited above to report the three different types of unreported sales, indicates that Huafeng did not act to the best of its abilities in investigating its records for reportable sales of subject merchandise. Huafeng failed to act to the best of its ability to comply with the Department's repeated requests for information regarding all of its sales of subject merchandise. Therefore, the Department has preliminarily determined to apply AFA to these unreported sales, pursuant to section 776(b) of the Act.

⁶² See 5th Review CEP Verification Report at 12-14.

C. Selection of AFA Rates

1. Total AFA Rate for the PRC-Wide Entity

In deciding which facts to use as AFA, section 776(b) of the Act and 19 CFR 351.308(c)(1) provide that the Department may rely on information derived from (1) the petition, (2) a final determination in the investigation, (3) any previous review or determination, or (4) any information placed on the record. The Department's practice is to select an AFA rate that is sufficiently adverse “as to effectuate the purpose of the facts available rule to induce respondents to provide the Department with complete and accurate information in a timely manner” and that ensures “that the party does not obtain a more favorable result by failing to cooperate than if it had cooperated fully.” ⁶³ Specifically, the Department's practice in selecting a total AFA rate in administrative reviews is to use the highest rate on the record of the proceeding which, to the extent practicable, can be corroborated (assuming the rate is based on secondary information).⁶⁴ The Court of International Trade (“CIT”) and the CAFC have affirmed decisions to select the highest margin from any prior segment of the proceeding as the AFA rate on numerous occasions.⁶⁵ Therefore, as AFA, the Department has preliminarily assigned the PRC-wide entity a dumping margin of 216.01 percent. This margin, which is from the 2004-2005 new shipper reviews of WBF from the PRC, is the highest dumping margin on the record of any segment of this proceeding.⁶⁶

⁶³ See Notice of Final Determination of Sales at Less Than Fair Value: Static Random Access Memory Semiconductors From Taiwan, 63 FR 8909, 8911 (February 23, 1998); see also Brake Rotors From the People's Republic of China: Final Results and Partial Rescission of the Seventh Administrative Review; Final Results of the Eleventh New Shipper Review, 70 FR 69937, 69939 (November 18, 2005) and the Statement of Administrative Action accompanying the Uruguay Round Agreements Act, H.R. Doc. 103, 316, 838, 870 (1994).

⁶⁴ See Glycine from the People's Republic of China: Preliminary Results of Antidumping Duty Administrative Review, 74 FR 15930, 15934 (April 8, 2009), unchanged in the final results, 74 FR 41121; see also Fujian Lianfu Forestry Co., Ltd. v. United States, 638 F. Supp. 2d 1325, 1336 (Ct. Int'l Trade 2009) (“Commerce may, of course, begin its total AFA selection process by defaulting to the highest rate in any segment of the proceeding, but that selection must then be corroborated, to the extent practicable.”).

⁶⁵ See, e.g., NSK Ltd. v. United States, 346 F. Supp. 2d 1312, 1335 (Ct. Int'l Trade 2004) (affirming a 73.55 percent total AFA rate, the highest available dumping margin from a different respondent in the investigation); Kompass Food Trading Int'l v. United States, 24 CIT 678, 683-84 (2000) (affirming a 51.16 percent total AFA rate, the highest available dumping margin from a different, fully cooperative respondent); and Shanghai Taoen Int'l Trading Co., Ltd. v. United States, 360 F. Supp. 2d 1339, 1348 (Ct. Int'l Trade 2005) (affirming a 223.01 percent total AFA rate, the highest available dumping margin from a different respondent in a previous administrative review).

⁶⁶ See Wooden Bedroom Furniture from the People's Republic of China: Final Results of the 2004-2005 Semi-Annual New Shipper Reviews, 71 FR 70739, 70741 (December 6, 2006) (“2004-2005 New Shipper Review”).

2. Partial AFA for Huafeng's Unreported Sales

Consistent with the approach taken under the same circumstances in the 2008 antidumping duty administrative review of WBF from the PRC, we have assigned as partial AFA for the unreported sales the PRC-wide rate of 216.01 percent cited above, which is from the 2004-2005 new shipper reviews of WBF from the PRC, and is the highest dumping margin on the record of any segment of this proceeding.⁶⁷

⁶⁷ Id.

Corroboration of Secondary Information

Section 776(c) of the Act provides that, when the Department relies on secondary information rather than on information obtained in the course of an investigation or review, it shall, to the extent practicable, corroborate that information from independent sources that are reasonably at its disposal. Secondary information is defined as information derived from the petition that gave rise to the investigation or review, the final determination concerning the subject merchandise, or any previous review under section 751 of the Act concerning the subject merchandise.⁶⁸ Corroborate means that the Department will satisfy itself that the secondary information to be used has probative value.⁶⁹ To corroborate secondary information, the Department will, to the extent practicable, examine the reliability and relevance of the information to be used.⁷⁰ Independent sources used to corroborate such information may include, for example, published price lists, official import statistics and customs data, and information obtained from interested parties during the particular investigation.⁷¹

⁶⁸ See SAA at 870.

⁶⁹ Id.

⁷⁰ See Tapered Roller Bearings and Parts Thereof, Finished and Unfinished From Japan, and Tapered Roller Bearings Four Inches or Less in Outside Diameter, and Components Thereof, From Japan: Preliminary Results of Antidumping Duty Administrative Reviews and Partial Termination of Administrative Reviews, 61 FR 57391, 57392 (November 6, 1996), unchanged in the final results, 62 FR 11825; Tapered Roller Bearings and Parts Thereof, Finished and Unfinished From Japan, and Tapered Roller Bearings Four Inches or Less in Outside Diameter, and Components Thereof, From Japan; Final Results of Antidumping Duty Administrative Reviews and Termination in Part, 62 FR 11825 (March 13, 1997).

⁷¹ See Notice of Preliminary Determination of Sales at Less Than Fair Value: High and Ultra-High Voltage Ceramic Station Post Insulators from Japan, 68 FR 35627, 35629 (June 16, 2003), unchanged in final determination, 68 FR 62560; Notice of Final Determination of Sales at Less Than Fair Value: Live Swine From Canada, 70 FR 12181, 12183-84 (March 11, 2005).

The 216.01 AFA rate that the Department is using in this review is a company-specific rate calculated in the 2004-2005 New Shipper Review of the WBF order.⁷² No additional information has been presented in the current review which calls into question the reliability of the information. Thus, we have determined this information continues to be reliable.

⁷² See 2004-2005 New Shipper Review, 71 FR at 70741.

With respect to the relevance aspect of corroboration, the Department will consider information reasonably at its disposal to determine whether a margin continues to have relevance. Where circumstances indicate that the selected margin is not appropriate as AFA, the Department will disregard the margin and determine an appropriate margin. See Fresh Cut Flowers from Mexico; Final Results of Antidumping Duty Administrative Review, 61 FR 6812, 6814 (February 22, 1996) (where the Department disregarded the highest margin in that case as adverse best information available (the predecessor to facts available) because the margin was based on another company's uncharacteristic business expense resulting in an unusually high margin). Similarly, the Department does not apply a margin that has been discredited. See D&L Supply Co. v. United States, 113 F.3d 1220, 1221 (Fed. Cir. 1997) (ruling that the Department will not use a margin that has been judicially invalidated).

To assess the relevancy of the rate used, the Department compared the transaction-specific margins calculated for Huafeng in the instant administrative review with the 216.01 percent rate calculated in the 2004-2005 New Shipper Review and found that the 216.01 percent margin was within the range of the margins calculated on the record of the instant administrative review. Because the dumping margins used to corroborate the AFA rate do not reflect unusually high dumping margins relative to the calculated rates determined for the cooperating respondent, the Department is satisfied that the dumping margins used for corroborative purposes reflect commercial reality because they are based upon real transactions that occurred during the POR, were subject to verification by the Department, and were sufficient in number both in terms of the number of sales and as a percentage of total sales quantity.⁷³

⁷³ See the January 31, 2010 Corroboration Memorandum.

Since the 216.01 percent margin is within the range of Huafeng's transaction-specific margins on the record of this administrative review, the Department has determined that the 216.01 percent margin continues to be relevant for use as an AFA rate for the PRC-wide entity and for use as an AFA rate applied to Huafeng's unreported sales.

As the adverse margin is both reliable and relevant, the Department has determined that it has probative value. Accordingly, the Department has determined that this rate meets the corroboration criterion established in section 776(c) of the Act.

Fair Value Comparisons

In accordance with section 777A(d)(2) of the Act, to determine whether Huafeng sold WBF to the United States at less than NV, we compared the weighted-average export and constructed export price of the WBF to the NV of the WBF, as described in the “U.S. Price,” and “Normal Value” sections of this notice.

Export Price

The Department considered the U.S. prices of certain sales by Huafeng to be EP sales in accordance with section 772(a) of the Act, because these were the prices at which the subject merchandise was first sold before the date of importation by the producer/exporter of the subject merchandise outside of the United States to an unaffiliated purchaser in the United States or to an unaffiliated purchaser for exportation to the United States.

We calculated EPs based on prices to unaffiliated purchaser(s) in the United States. We deducted movement expenses from the gross unit U.S. sales price in accordance with section 772(c)(2)(A) of the Act. These movement expenses include foreign inland freight from the plant to the port of exportation, and foreign brokerage and handling. Where applicable, we reduced movement expenses by freight revenue. For a detailed description of all adjustments, see Huafeng Analysis Memorandum, dated concurrently with this notice.

Constructed Export Price

In accordance with section 772(b) of the Act, CEP is the price at which the subject merchandise is first sold (or agreed to be sold) in the United States before or after the date of importation by or for the account of the producer or exporter of such merchandise or by a seller affiliated with the producer or exporter, to a purchaser not affiliated with the producer or exporter, as adjusted under sections 772(c) and (d) of the Act. We considered sales made by Huafeng's U.S. affiliate in the United States to be CEP sales.

We calculated CEP based on prices to unaffiliated purchasers in the United States. In accordance with section 772(c)(2)(A) and 772(d)(1) and of the Act, where applicable, we made deductions from the starting price for billing adjustments, discounts and rebates, movement expenses, and commissions, credit expenses, inventory carrying costs, factoring expense, warranty expense, and indirect selling expenses which relate to commercial activity in the United States. Movement expenses included, where applicable, foreign inland freight from the plant to the port of exportation, foreign brokerage and handling, ocean freight, marine insurance, U.S. inland freight from the port to the warehouse, U.S. freight from the warehouse to the customer, U.S. customs duty, and other U.S. transportation costs. Where applicable, we reduced movement expenses by freight revenue. In addition, we deducted CEP profit from U.S. price in accordance with sections 772(d)(3) and 772(f) of the Act. As a CEP adjustment and in accordance with section 773(a) of the Act, we calculated Huafeng's credit expenses and inventory carrying costs based on short-term interest rates. Because Huafeng did not incur short-term U.S. dollar borrowings during the POR, we based its interest rate on the short-term interest rate from the Federal Reserve. For a detailed description of all adjustments, see Huafeng Analysis Memorandum, dated January 31, 2010.

Normal Value

Section 773(c)(1) of the Act provides that the Department shall determine NV using an FOP methodology if: (1) The merchandise is exported from an NME country; and (2) the information does not permit the calculation of NV using home-market prices, third-country prices, or constructed value under section 773(e) of the Act. When determining NV in an NME context, the Department will base NV on FOP, because the presence of government controls on various aspects of NMEs renders price comparisons and the calculation of production costs invalid under our normal methodologies. Under section 773(c)(3) of the Act, FOP include, but are not limited to: (1) Hours of labor required; (2) quantities of raw materials employed; (3) amounts of energy and other utilities consumed; and (4) representative capital costs. The Department based NV on consumption quantities reported by Huafeng for materials, energy, labor and packing.

In accordance with 19 CFR 351.408(c)(1), the Department will normally use publicly-available surrogates to value FOP, but when a producer sources an input from a market economy and pays for it in market economy currency, the Department will normally value the factor using the actual price paid for the input. However, when the Department has reason to believe or suspect that such prices may be distorted by subsidies, the Department will disregard the market economy purchase prices and use surrogate values (“SVs”) to determine the NV.⁷⁴ Where the facts developed in either U.S. or third-country countervailing duty findings include the existence of subsidies that appear to be used generally (in particular, broadly available, non-industry specific export subsidies), the Department will have reason to believe or suspect that prices of the inputs from the country granting the subsidies may be subsidized.⁷⁵

⁷⁴ See Tapered Roller Bearings and Parts Thereof, Finished and Unfinished, From the People's Republic of China; Final Results of the 1998-1999 Administrative Review, Partial Rescission of Review, and Determination Not To Revoke Order in Part, 66 FR 1953 (January 10, 2001) (“TRBs 1998-1999),” and accompanying Issues and Decision Memorandum at Comment 1.

⁷⁵ See TRBs 1998-1999 at Comment 1; see also Tapered Roller Bearings and Parts Thereof, Finished and Unfinished, From the People's Republic of China; Final Results of 1999-2000 Administrative Review, Partial Rescission of Review, and Determination Not To Revoke Order in Part, 66 FR 57420 (November 15, 2001), and accompanying Issues and Decision Memorandum at Comment 1; China National Machinery Imp. & Exp. Corp. v. United States, 293 F. Supp. 2d 1334, 1338-39 (Ct. Int'l Trade 2003).

In accordance with the OTCA 1988 legislative history, the Department continues to apply its long-standing practice of disregarding SVs if it has a reason to believe or suspect the source data may be subsidized.⁷⁶ In this regard, the Department has previously found that it is appropriate to disregard such prices from India, Indonesia, South Korea and Thailand because we have determined that these countries maintain broadly available, non-industry specific export subsidies.⁷⁷ Based on the existence of these subsidy programs that were generally available to all exporters and producers in these countries at the time of the POR, the Department finds that it is reasonable to infer that all exporters from India, Indonesia, South Korea and Thailand may have benefitted from these subsidies.

⁷⁶ See Omnibus Trade and Competitiveness Act of 1988, Conf. Report to Accompany H.R. 3, H.R. Rep. No. 576, 100th Cong., 2nd Sess. (1988) (“OTCA 1988”) at 590.

⁷⁷ See, e.g., Carbazole Violet Pigment 23 from India: Final Results of the Expedited Five-year (Sunset) Review of the Countervailing Duty Order, 75 FR 13257 (March 19, 2010) and accompanying Issues and Decision Memorandum at Comment 2; Certain Cut-to-Length Carbon Quality Steel Plate from Indonesia: Final Results of Expedited Sunset Review, 70 FR 45692 (August 8, 2005) and accompanying Issues and Decision Memorandum at page 4; Corrosion-Resistant Carbon Steel Flat Products from the Republic of Korea: Final Results of Countervailing Duty Administrative Review, 74 FR 2512 (January 15, 2009) and accompanying Issues and Decision Memorandum at pages 17, 19-20; Final Affirmative Countervailing Duty Determination: Certain Hot-Rolled Carbon Steel Flat Products From Thailand, 66 FR 50410 (October 3, 2001) and accompanying Issues and Decision Memorandum at page 23.

Factor Valuations

In accordance with section 773(c) of the Act, we calculated NV based on FOP reported by Huafeng for the POR. To calculate NV, the Department multiplied the reported per-unit factor quantities by publicly-available Philippine SVs (except as noted below). In selecting the SV, the Department considered the quality, specificity, and contemporaneity of the data. As appropriate, the Department adjusted input prices by including freight costs to make them delivered prices. Specifically, the Department added to Philippine import SVs a surrogate freight cost using the shorter of the reported distance from the domestic supplier to the respondent's factory or the distance from the nearest seaport to the respondent's factory where appropriate (i.e., where the sales terms for the market economy inputs were not delivered to the factory). This adjustment is in accordance with the decision of the CAFC in Sigma Corp. v. United States, 117 F.3d 1401, 1407-08 (Fed. Cir. 1997). Due to the extensive number of SVs in this administrative review, we present only a brief discussion of the main FOP in this notice. For a detailed description of all SVs used to value Huafeng's reported FOP, see Factor Valuation Memorandum.

Huafeng reported that certain of its reported raw material inputs were sourced from market economy countries and paid for in market economy currencies. Pursuant to 19 CFR 351.408(c)(1), when a respondent sources inputs from a market economy supplier in meaningful quantities (i.e., not insignificant quantities), we use the actual price paid by the respondents for those inputs, except when prices may have been distorted by findings of dumping by the PRC and/or subsidies.⁷⁸ Huafeng reported information demonstrating that the quantities of certain raw materials purchased from market economy suppliers are significant. Where we found market economy purchases of inputs to be in significant quantities, in accordance with our statement of policy as outlined in Antidumping Methodologies: Market Economy Inputs, we have used the actual purchases of these inputs to value the inputs.⁷⁹

⁷⁸ See Antidumping Duties; Countervailing Duties; Final Rule, 62 FR 27296, 27366 (May 19, 1997).

⁷⁹ See Antidumping Methodologies: Market Economy Inputs, Expected Non-Market Economy Wages, Duty Drawback; and Request for Comments, 71 FR 61716, 61717 (October 19, 2006) (“Antidumping Methodologies: Market Economy Inputs”); see also Huafeng Analysis Memorandum.

Where market economy purchases of inputs were not made in significant quantities, we used, in part, import values for the POR from the Philippines National Statistics Office (“Philippines NSO”) reported in U.S. dollars on a cost, insurance, and freight (“CIF”) basis to value the following inputs: processed woods (e.g., particleboard, etc.), adhesives and finishing materials (e.g., glue, paints, sealer, lacquer, etc.), hardware (e.g., nails, staples, screws, bolts, knobs, pulls, drawer slides, hinges, clasps, etc.), other materials (e.g., mirrors, glass, leather, cloth, sponge, etc.), and packing materials (e.g., cardboard, cartons, plastic film, labels, tape, etc.). The Philippines NSO is the only data source on the record that provides data on a net weight basis, which is the same basis as reported by the respondent in reporting its FOP. For a complete listing of all the inputs and the valuation for each see Factor Valuation Memorandum.

Where we could only obtain SVs that were not contemporaneous with the POR, we inflated (or deflated) the surrogate values using the Philippine Wholesale Price Index as published in the International Financial Statistics of the International Monetary Fund.

On May 14, 2010, the CAFC in Dorbest Ltd. v. United States, 604 F.3d 1363, 1372 (CAFC 2010) (“Dorbest IV”), found that the “{regression-based} method for calculating wage rates {as stipulated by 19 CFR 351.408(c)(3)} uses data not permitted by {the statutory requirements laid out in section 773 of the Act (i.e., 19 U.S.C. 1677b(c))}.”

For the preliminary results of this review, the Department is valuing labor using a simple average industry-specific wage rate using earnings or wage data reported under Chapter 5B by the International Labor Organization (“ILO”). To achieve an industry-specific labor value, we relied on industry-specific labor data from the countries we determined to be both economically comparable to the PRC and significant producers of comparable merchandise. A full description of the industry-specific wage rate calculation methodology is provided in the Factor Valuation Memorandum. The Department calculated a simple average industry-specific wage rate of $1.20 for these preliminary results. Specifically, for this review, the Department has calculated the wage rate using a simple average of the data provided to the ILO under Sub-Classification 36 of the ISIC-Revision 3 standard by countries determined to be both economically comparable to the PRC and significant producers of comparable merchandise. The Department finds the two-digit description under International Standard Industrial Classification—Revision 3 (“Manufacture of furniture; manufacturing n.e.c.”) to be the best available wage rate surrogate value on the record because it is specific and derived from industries that produce merchandise comparable to the subject merchandise. Consequently, we averaged the ILO industry-specific wage rate data or earnings data available from the following countries found to be economically comparable to the PRC and significant producers of comparable merchandise: Ecuador, Egypt, Indonesia, Jordan, Peru, the Philippines, Thailand, and Ukraine. For further information on the calculation of the wage rate, see Factor Valuation Memorandum.

We valued electricity using contemporaneous Philippine data from The Cost of Doing Business in Camarines Sur available at the Philippine government's Web site for the province: http://www.camarinessur.gov.ph.⁸⁰ This data pertained only to industrial consumption.

⁸⁰ For a copy of pages from this website, see the Factor Valuation Memorandum at 8.

We calculated the value of domestic brokerage and handling and truck freight using Philippine data cited in a report compiled and released by the World Bank Group, entitled “Trading Across Borders” and available at http://www.doingbusiness.org/data/explore economies/philippines/trading-across-borders.⁸¹

⁸¹ For a copy of pages from this website, see the Factor Valuation Memorandum at 9.

As noted above, the Department has been unable to locate a suitable surrogate value from the Philippines for the input “railway freight.” Therefore, the Department has calculated the surrogate value for railway freight using data from Indian Railways available at: http://www.Indianrailways.gov.in/. While the Department normally does not use data from an alternative surrogate country, no such data is available for truck freight in the Philippines. Thus, the Department has determined that the Indian Railways data are the only data on the record that are contemporaneous, country-wide and clearly identify the relevant time period, exact prices, distances, and weights. We further note that the Department has relied on surrogate values from India when usable surrogate values from the Philippines are not on the record,⁸² has relied on India as a surrogate country in a previous segment of the proceeding,⁸³ and listed India as a suitable surrogate country for this review.⁸⁴ For these reasons, in the final results we will value Huafeng's inland freight expenses using Indian Railways data.

⁸² Id.; see also Wooden Bedroom Furniture from the People's Republic of China: Final Results of Antidumping Duty Administrative Review and New Shipper Review, 73 FR 49162 (August 20, 2008) and accompanying Issues and Decision Memorandum at Comment 1.

⁸³ See Amended Final Results of Antidumping Duty Administrative Review and New Shipper Reviews: Wooden Bedroom Furniture From the People's Republic of China, 72 FR 46957, 46960 (August 22, 2007).

⁸⁴ See Policy Memorandum.

We valued factory overhead, selling, general, and administrative (“SG&A”) expenses, and profit, using the audited financial statements for the fiscal year ending December 31, 2009, from the following producers: APY Cane International; Berbenwood Industries; Clear Export Industries, Inc.; Heritage Meubles Mirabile Export, Inc.; Interior Crafts of the Islands, Incorporated; Wicker & Vine, Inc.; and Insular Rattan & Native Products Corp. These companies are the only Philippine producers of merchandise identical to subject merchandise which received no countervailable subsidies, and earned a before tax profit in 2009 for which we have financial information. From this information, we were able to determine factory overhead as a percentage of the total raw materials, labor and energy (ML&E) costs; SG&A as a percentage of ML&E plus overhead (i.e., total cost of manufacture); and the profit rate as a percentage of the cost of manufacture plus SG&A. For further discussion, see Factor Valuation Memorandum.

Currency Conversion

We made currency conversions into U.S. dollars, in accordance with section 773A(a) of the Act, based on the exchange rates in effect on the dates of the U.S. sales as certified by the Federal Reserve Bank.

Preliminary Results of Review

We preliminarily determine that the following weighted-average dumping margins exist for the period January 1, 2009 through December 31, 2009:

Exporter | Antidumping duty percent margin
Dalian Huafeng Furniture Co., Ltd./Dalian Huafeng Furniture Group Co., Ltd.# | 16.24
Baigou Crafts Factory of Fengkai# | 16.24
Cheng Meng Furniture (PTE) Ltd., Cheng Meng Decoration & Furniture (Suzhou) Co., Ltd.* | 16.24
COE, Ltd.* | 16.24
Dongguan Bon Ten Furniture Co., Ltd.# | 16.24
Dongguan Hero Way Woodwork Co., Ltd., Dongguan Da Zhong Woodwork Co., Ltd., Hero Way Enterprises Ltd., Well Earth International Ltd.* | 16.24
Dongguan Kin Feng Furniture Co., Ltd. # | 16.24
Dongguan Liaobushangdun Huada Furniture Factory, Great Rich (HK) Enterprise Co., Ltd.* | 16.24
Dongguan Singways Furniture Co., Ltd# | 16.24
Dongguan Sunshine Furniture Co., Ltd.# | 16.24
Eurosa (Kunshan) Co., Ltd., Eurosa Furniture Co., (PTE) Ltd. (Eurosa)* | 16.24
Garri Furniture (Dong Guan) Co., Ltd., Molabile International, Inc. Weei Geo Enterprise Co., Ltd.* | 16.24
Hong Kong Da Zhi Furniture Co., Ltd., Dongguan Grand Style Furniture Co., Ltd.# | 16.24
Hualing Furniture (China) Co., Ltd., Tony House Manufacture (China) Co., Ltd., Buysell Investments Ltd., Tony House Industries Co., Ltd.* | 16.24
Jardine Enterprise, Ltd.* | 16.24
Longkou Huangshan Furniture Factory# | 16.24
Meikangchi (Nantong) Furniture Company Ltd.* | 16.24
Nanhai Baiyi Woodwork Co. Ltd.# | 16.24
Nanjing Nanmu Furniture Co., Ltd.# | 16.24
Season Furniture Manufacturing Co., Season Industrial Development Co.# | 16.24
Shenyang Shining Dongxing Furniture Co., Ltd.# | 16.24
Shenzhen Shen Long Hang Industry Co., Ltd.# | 16.24
Wanhengtong Nueevder (Furniture) Manufacture Co., Ltd., Dongguan Wanengtong Industry Co., Ltd.# | 16.24
Winny Overseas, Ltd.* | 16.24
Xilinmen Furniture Co., Ltd.# | 16.24
Zhangjiagang Zheng Yan Decoration Co. Ltd.# | 16.24
Zhangjiang Sunwin Arts & Crafts Co., Ltd.# | 16.24
Zhong Shan Fullwin Furniture Co., Ltd.* | 16.24
PRC-Wide Entity | 216.01

Disclosure

The Department will disclose calculations performed for these preliminary results to the parties within five days of the date of publication of this notice in accordance with 19 CFR 351.224(b).

Comments

Interested parties may submit written comments no later than 30 days after the date of publication of these preliminary results of review. See 19 CFR 351.309(c)(1)(ii). Rebuttal comments must be limited to the issues raised in the written comments and may be filed no later than 35 days after the date of publication. See 19 CFR 351.309(d). Parties submitting written comments or rebuttal are requested to provide the Department with an additional copy of those comments on CD-ROM. Any interested party may request a hearing within 30 days of publication of these preliminary results. See 19 CFR 351.310(c). Any hearing, if requested, ordinarily will be held two days after the scheduled date for submission of rebuttal briefs. See 19 CFR 351.310(d). Parties should confirm by telephone the date, time, and location of the hearing two days before the scheduled date.

The Department will issue the final results of the administrative review, which will include the results of its analysis of issues raised in the briefs, within 120 days of publication of these preliminary results, in accordance with 19 CFR 351.213(h)(1) unless the time limit is extended.

Assessment Rates

Pursuant to 19 CFR 351.212, the Department will determine, and CBP shall assess, antidumping duties on all appropriate entries of subject merchandise in accordance with the final results of this review. For assessment purposes, the Department calculated exporter/importer (or customer)-specific assessment rates for merchandise subject to this review. Where appropriate, the Department calculated an ad valorem rate for each importer (or customer) by dividing the total dumping margins for reviewed sales to that party by the total entered values associated with those transactions. For duty-assessment rates calculated on this basis, the Department will direct CBP to assess the resulting ad valorem rate against the entered customs values for the subject merchandise. Where an importer (or customer)-specific assessment rate is de minimis (i.e., less than 0.50 percent), the Department will instruct CBP to assess that importer (or customer's) entries of subject merchandise without regard to antidumping duties. The Department intends to instruct CBP to liquidate entries containing subject merchandise exported by the PRC-wide entity at the PRC-wide rate we determine in the final results of this review. The Department intends to issue appropriate assessment instructions directly to CBP 15 days after publication of the final results of this review.

Cash Deposit Requirements

The following cash deposit requirements will be effective upon publication of the final results of this review for shipments of subject merchandise from the PRC entered, or withdrawn from warehouse, for consumption on or after the publication date, as provided by sections 751(a)(1) and (a)(2)(C) of the Act: (1) For all respondents receiving a separate rate, the cash deposit rate will be that established in the final results of this review; (2) for previously investigated or reviewed PRC and non-PRC exporters not listed above that have separate rates, the cash deposit rate will continue to be the exporter-specific rate published for the most recent period; (3) for all PRC exporters of subject merchandise that have not been found to be entitled to a separate rate, the cash deposit rate will be the PRC-wide rate established in the final results of this review; and (4) for all non-PRC exporters of subject merchandise which have not received their own rate, the cash deposit rate will be the rate applicable to the PRC exporters that supplied that non-PRC exporter. These deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

The Department is issuing and publishing these preliminary results of administrative review in accordance with section 777(i)(1) of the Act, and 19 CFR 351.221(b)(4).

Dated: January 31, 2011.
Ronald K. Lorentzen,
Deputy Assistant Secretary for Import Administration.

[FR Doc. 2011-3024 Filed 2-9-11; 8:45 am]

BILLING CODE 3510-DS-P